INTERNATIONAL TRADE COMMISSION

[Investigation No. 731-TA-749 (Fourth Review)]

Persulfates From China

Determination

On the basis of the record ¹ developed in the subject five-year review, the United States International Trade Commission (“Commission”) determines, pursuant to the Tariff Act of 1930 (“the Act”), that revocation of the antidumping duty order on persulfates from China would be likely to lead to continuation or recurrence of material injury to an industry in the United States within a reasonably foreseeable time.

¹ The record is defined in sec. 207.2(f) of the Commission's Rules of Practice and Procedure (19 CFR 207.2(f)).

Background

The Commission, pursuant to section 751(c) of the Act (19 U.S.C. 1675(c)), instituted this review on February 1, 2019 (84 FR 2252, February 6, 2019) and determined on May 7, 2019 that it would conduct an expedited review (84 FR 32217, July 5, 2019).

The Commission made this determination pursuant to section 751(c) of the Act (19 U.S.C. 1675(c)). It completed and filed its determination in this review on August 15, 2019. The views of the Commission are contained in USITC Publication 4946 (August 2019), entitled Persulfates from China: Investigation No. 731-TA-749 (Fourth Review).

By order of the Commission.
Issued: August 15, 2019.
Lisa Barton,
Secretary to the Commission.

[FR Doc. 2019-17953 Filed 8-20-19; 8:45 am]

BILLING CODE 7020-02-P